DEPARTMENT OF ENERGY

Federal Energy Regulatory Commission

[Docket No. CP01-388-002]

Transcontinental Gas Pipe Line Corporation; Notice of Amendment

February 12, 2003.

Take notice that on February 4, 2003., Transcontinental Gas Pipe Line Corporation (Transco), P.O. Box 1396, Houston, Texas 77251-1396, filed in Docket No. CP01-388-002, an application pursuant to Section 7(c) of the Natural Gas Act (NGA), as amended, and part 157 of the regulations of the Federal Energy Regulatory Commission (Commission), for authorization to amend the certificate of public convenience and necessity granted by the Commission by order issued February 14, 2002 in Docket No. CP01-388 authorizing Transco's Momentum Expansion Project (Momentum), all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Transco states that Momentum is an incremental expansion of Transco's existing pipeline system to provide new firm transportation capacity to serve increased market demand in the Southeastern region of the United States.

Transco states that the purpose of this application is to seek Commission authorization to amend the Momentum certificate to enable Transco to: (1) Reduce the overall size of the project from 358,898 dt/d to 322,898 dt/d to reflect the termination of two shippers under the project and the partial replacement of such shippers with two new shippers under the project, (2) place the Momentum facilities into service in two phases, with the first phase (Phase I) to be placed into service on May 1, 2003. and the second phase (Phase II) to be placed into service on May 1, 2004, and (3) redesign the recourse rates to reflect the revised estimated cost of the project and the phased-in construction of the project.

Transco states that in order to provide the service requested, it proposes to downsize the firm transportation capacity to be created under Momentum and to place the project facilities into service in two phases. The Momentum facilities as amended will consist of the following:

Phase I Facilities—268,898 dt/d of firm transportation capacity commencing May 1, 2003. (the original in-service date for Momentum):

• Magnolia Loop. 2.03 miles of 42-inch diameter pipeline loop from milepost 632.89 on Transco's mainline in Amite County, Mississippi to milepost 634.85 on Transco's mainline in Amite County, Mississippi (previously authorized as 6.63 miles of 42-inch diameter pipeline loop from milepost 632.89 to milepost 639.44 in Pike County, Mississippi);

• Jones Loop. 25.25 miles of 48-inch diameter pipeline loop from milepost 860.78 on Transco's mainline in Perry County, Alabama to milepost 885.97 in Autauga County, Alabama (previously authorized as 25.38 miles of 48-inch diameter pipeline loop from milepost 860.78 to milepost 886.12 in Autauga County, Alabama);

• Kellyton Loop. 8.35 miles of 42-inch diameter pipeline loop from milepost 926.87 (the discharge side of Compressor Station No. 105) on Transco's mainline in Coosa County, Alabama to milepost 935.04 in Coosa County, Alabama (previously authorized as 19.01 miles of 42-inch diameter pipeline loop from milepost 926.87 to milepost 945.64 in Tallapoosa County, Alabama; a portion of this loop is included in Phase II);

• The Bowman Loop and the compression related facilities at Compressor Station Nos. 90, 105, 130 and 160 remain as originally certificated in the February 14, 2002 order.

Phase II Facilities—54,000 dt/d of firm transportation capacity commencing May 1, 2004:

• Kellyton Loop. 6.84 miles of 42-inch diameter pipeline loop from milepost 935.04 on Transco's mainline in Coosa County, Alabama to milepost 941.85 in Tallapoosa County, Alabama (as noted above, previously authorized as 19.01 miles of 42-inch diameter pipeline loop from milepost 926.87 on Transco's mainline in Coosa County, Alabama to milepost 945.64 in Tallapoosa County, Alabama; a portion of this loop is included in Phase I).

The previously authorized Hale Loop, consisting of 5.55 miles of 42-inch diameter pipeline loop from milepost 767.38 on Transco's mainline in Clarke County, Mississippi to milepost 772.80 in Clarke County, will be eliminated in its entirety.

Transco states that a complete environmental record regarding the Momentum facilities has already been developed in this proceeding. Since no new facilites are being proposed herein and since the shortened loops described above will be essentially within the “footprint” of the originally certificated loops, Transco states that this requested amendment will reduce the overall environmental impact of the project. Relocated loop tie-ins may take additional extra work space at a new location that was not contemplated under an original, longer loop, but the impact will be minor.

Transco states that it estimates the proposed project, as amended, will cost approximately $189 million. As a result of the changes to the estimated cost and billing determinants for the project and the phasing of the facilities, Transco proposes to revise the certificated initial recourse rates for the firm transportation service under Momentum. Transco requests that the Commission issue an order granting these requested authorizations by April 10, 2003, to enable Transco to place the Phase I facilities into service by May 1, 2003 as requested by the Phase I shippers.

Any questions concerning this application may be directed to Tom Compson, Transcontinental Gas Pipe Line Corporation, P. O. Box 1396, Houston, Texas 77251-1396, at (713) 215-2080; or Scott C. Turkington, Director, Rates & Regulatory, or Stephen A. Hatridge, Senior Counsel, Transcontinental Gas Pipe Line Corporation, P. O. Box 1396, Houston, Texas 77251-1396, at (713) 215-2312. In addition, Transco states that it has established a toll-free telephone number (1-866-241-1787) so parties can call with questions about the Momentum project.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: March 5, 2003.

Magalie R. Salas,
Secretary.

[FR Doc. 03-4004 Filed 2-18-03; 8:45 am]

BILLING CODE 6717-01-P